DEPARTMENT OF THE TREASURY

Office of Foreign Assets Control

Sanctions Actions Pursuant to Executive Order 13581

AGENCY: Office of Foreign Assets Control, Treasury.

ACTION: Notice.

SUMMARY: The U.S. Department of the Treasury's Office of Foreign Assets Control (OFAC) is publishing the names of persons whose property and interests in property have been unblocked pursuant to Executive Order 13581 of July 24, 2011, “Blocking Property of Transnational Criminal Organizations.”

DATES: OFAC's actions described in this notice were effective on April 6, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On April 6, 2017, OFAC removed from the SDN List the persons listed below, whose property and interests in property were blocked pursuant to Executive Order 13581.

Individuals

1. HANRAHAN, Siobhan Ann, Shannon Airport House, Shannon Free Zone, Shannon, County Clare, Ireland; Meadow View, Clonlohan, Newmarket-on-Fergus, County Clare, Ireland; DOB May 1972 (individual) [TCO] (Linked To: PACNET HOLDINGS LIMITED; Linked To: PACNET SERVICES LTD.; Linked To: PACNET CONNECTIONS LIMITED; Linked To: PACNET SERVICES (IRELAND) LIMITED; Linked To: AEROPAY LIMITED; Linked To: PACNET EUROPE; Linked To: PACNET GROUP).

2. MACBAIN, Donna Maria, Parkshot House, 5 Kew Road, Richmond, Surrey TW9 2PR, United Kingdom; DOB 01 Feb 1979 to 28 Feb 1979; nationality United Kingdom (individual) [TCO] (Linked To: COUNTING HOUSE SERVICES LTD.; Linked To: PACNET SERVICES LTD.; Linked To: PACNET GROUP).

Dated: April 6, 2017.
Andrea Gacki,
Acting Director, Office of Foreign Assets Control.

[FR Doc. 2017-19635 Filed 9-14-17; 8:45 am]

BILLING CODE 4810-AL-P